DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Pacific Islands Region Coral Reef Ecosystems Permit Form.

Form Number(s): None.

OMB Approval Number: 0648-0463.

Type of Request: Regular submission.

Burden Hours: 30.

Number of Respondents: 12.

Average Hours Per Response: Applications, 2 hours; and appeals, 3 hours.

Needs and Uses: The regulations implementing the Fishery Management Plan (FMP) for Coral Reef Ecosystems of the Western Pacific Region include the establishment of a permit requirement for any U.S. vessel fishing for coral reef management unit species in the designated low-use Marine Protected Areas and open areas, i.e., waters seaward of the inner boundary of the U.S. Exclusive Economic Zone in the western Pacific region. The special permit is also required for at-sea transshipment of coral reef management unit species. The permit application form provides basic information about the permit applicant, vessel, fishing gear and method, target species, projected fishing effort, etc. for use by NOAA Fisheries Service and the Western Pacific Fishery Management Council in determining eligibility for permit issuance. The information is important for understanding the nature of the fishery and provides a link to participants. It also aids in the enforcement of FMP management measures.

Affected Public: Business or other for-profit organizations; individuals or households.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 2, 2005.
Gwellnar Banks,
Management Analyst, Office of the Chief Information Officer.

[FR Doc. 05-22185 Filed 11-7-05; 8:45 am]

BILLING CODE 3510-22-P